FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 012370-001.

Title: Volkswagen Konzernlogistik GmbH & Co. OHG/Hyundai Glovis Co., Ltd. Soace Charter Agreement.

Parties: Volkswagen Konzernlogistik GmbH & Co. OHG and Hyundai Glovis Co., Ltd.

Filing Party: Wayne R. Rohde, Esq.; Cozen O'Conner; 1200 19th Street NW., Washington, DC 20036.

Synopsis: The amendment expands geographic scope of the agreement to include all of the U.S. and clarifies that the agreement applies to the movement of vehicles and other ro-ro cargo.

By Order of the Federal Maritime Commission.
Dated: November 17, 2017.
Rachel E. Dickon,
Assistant Secretary.

[FR Doc. 2017-25305 Filed 11-21-17; 8:45 am]

BILLING CODE 6731-AA-P